DEPARTMENT OF JUSTICE

Notice of Lodging of Consent Decree Pursuant to the Comprehensive Environmental Response, Compensation, and Liability Act (“CERCLA”)

Notice is hereby given that on January 8, 2008, a proposed Consent Decree in United States v. Ashland, Inc. (W.D.N.Y.) No. 04-0904 (JTE) was lodged with the United States District Court for the Western District of New York.

On November 10, 2004, the United States, on behalf of the Army Corps of Engineers (Corps), filed a Complaint under Section 107(a) of the Comprehensive Environmental Response, Compensation, and Liability Act, as amended (“CERCLA”), 42 U.S.C. 9607(a), against Ashland Inc. (Ashland) seeking recovery of $23,145,119.00 in past costs, plus all future costs incurred by the Army Corps of Engineers in responding to the release or threat of release of hazardous substances at the Ashland 2 Site in Tonawanda, New York. Ashland has placed $2.75 million into an escrow account; the Consent Decree provides that Ashland will transfer the principal amount of $2.75 million plus any interest accrued from August 22, 2007 to the United States. In exchange, the United States has given Ashland a covenant not to sue, with restrictions, for the Ashland 1, 2, Rattlesnake Creek, and Seaway Sites under Sections 106, 107(a), and 113(f). of CERCLA, 42 U.S.C. 9606, 9607(a), and 9613(f).

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Ashland, Inc. (W.D.N.Y.) No. 04-0904 (JTE), D.J. Ref. 90-11-2-08292.

The Consent Decree may be examined at the Office of the United States Attorney, Western District of New York, 138 Delaware Avenue, Buffalo, New York 14202 and at the U.S. Army Corps of Engineers, 1776 Niagara Street, Buffalo, NY 14207. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Ronald Gluck,
Assistant Chief, Environmental Enforcement Section, Environment and Natural Resources Division.

[FR Doc. 08-269 Filed 1-24-08; 8:45 am]

BILLING CODE 4410-15-M